DEPARTMENT OF COMMERCE

National Oceanic and Atmospheric Administration

[RTID 0648-XA758]

Magnuson-Stevens Act Provisions; Fisheries of the Northeastern United States; Northeast Multispecies Fishery; Approved Monitoring Service Providers

AGENCY: National Marine Fisheries Service (NMFS), National Oceanic and Atmospheric Administration (NOAA), Commerce.

ACTION: Notification of approved monitoring service providers.

SUMMARY: NMFS has approved six companies to provide Northeast multispecies sector at-sea and/or electronic monitoring services in fishing years 2021 and 2022. Regulations implementing the Northeast Multispecies Fishery Management Plan require at-sea and electronic monitoring companies to apply to, and be approved by, NMFS in order to be eligible to provide monitoring services to sectors. This action will allow sectors to contract for at-sea and electronic monitoring services with any of the approved service providers for fishing years 2021 and 2022.

ADDRESSES: The list of NMFS-approved sector monitoring service providers is available at: https://www.fisheries.noaa.gov/resource/data/observer-providers-northeast-and-mid-atlantic-programs.

FOR FURTHER INFORMATION CONTACT: Claire Fitz-Gerald, Fishery Policy Analyst, (978) 281-9255, email Claire.Fitz-Gerald@noaa.gov.

SUPPLEMENTARY INFORMATION: The Northeast Multispecies Fishery Management Plan includes a requirement for industry-funded monitoring of catch by sector vessels. Sectors must contract with independent third-party service providers to provide at-sea and/or electronic monitoring services to their vessels. In order to provide at-sea or electronic monitoring services to sectors, monitoring companies must apply to, and be approved by, NMFS. Once approved, service providers must meet specified performance requirements outlined in 50 CFR 648.87(b)(4), including required coverage levels, in order to maintain eligibility.

At-Sea and Electronic Monitoring Service Provider Approval Process

Applications approved this year will cover both fishing year 2021 and fishing year 2022 (May 1, 2021 through April 30, 2023). There will be an opportunity in the fall of 2021 for additional monitoring companies to apply for approval to provide at-sea and electronic monitoring services in fishing year 2022.

The regulations at § 648.87(b)(4) describe the criteria for approval of at-sea and electronic monitoring service providers. We approve service providers based on: (1) Completeness and sufficiency of applications; and (2) determination of the applicant's ability to meet the performance requirements of a sector monitoring service provider. We must notify service providers, in writing, if NMFS withdraws approval for any reason.

Approved Monitoring Service Providers

NMFS approved six companies to provide monitoring services to the Northeast multispecies sectors in fishing years 2021 and 2022. Four of the six companies are approved to provide both at-sea and electronic monitoring services: A.I.S., Inc.; East West Technical Services, LLC; Fathom Research, LLC; and Saltwater, Inc. NMFS approved the other two companies to provide electronic monitoring services: Flywire Cameras and Teem Fish.

We approved these six companies to provide at-sea and/or electronic monitoring services in fishing years 2021 and 2022 because they have met the application requirements and documented their ability to comply with service provider standards. In addition, A.I.S., Inc., East West Technical Services, LLC, and Fathom Research, LLC are currently approved to provide at-sea monitoring services to sectors in fishing years 2019 and 2020 and have a history of meeting or exceeding the requirements of the at-sea monitoring program in the region. We will closely monitor the performance of approved providers, and we will withdraw approval during the current approval term, or disapprove a provider in future fishing years, if we determine performance standards are not being met.

We received applications from two additional companies, but need further information before their application is sufficiently complete for us to make an approval determination. Typically, we engage in an iterative process with provider companies to assist them in assembling and submitting a complete application for our consideration. Because this is our first time approving electronic monitoring companies to provider monitoring services, we are continuing to work with these companies to help them through this process. In the meantime, we are continuing with the approval process for the providers that have submitted complete applications and demonstrated their ability to meet program requirements. Moving forward with notification of our approval of the completed applications while continuing to work with the two remaining applicants is necessary to allow sectors sufficient time to negotiate monitoring contracts for the upcoming fishing year. If we subsequently decide to approve these companies, we will publish an additional notice in the Federal Register announcing our decision.

Table 1—Approved Providers for Fishing Years 2021 and 2022
Provider | Services * | Address | Phone | Fax | Website
A.I.S., Inc | ASM/EM | 540 Hawthorn St., Dartmouth, MA 02747 | 508-990-9054 | 508-990-9055 | https://aisobservers.com/
East West Technical Services, LLC | ASM/EM | 91 Point Judith Rd., Unit 347, Narragansett, RI 02882 | 860-910-4957 | 860-223-6005 | https://www.ewts.com/
Fathom Resources, LLC | ASM/EM | 855 Aquidneck Ave., Unit 9, Middletown, RI 02842 | 508-990-0997 | 508-991-7372 | https://fathomresources.com/
Flywire Cameras | EM | PO BOX 55048, Lexington, KY 40511 | 888-315-7796 | 502-861-6568 | https://www.flywirecameras.com/
Saltwater, Inc | ASM/EM | 733 N St., Anchorage, AK 99501 | 907-276-3241 | 907-258-5999 | https://www.saltwaterinc.com/
Teem Fish | EM | 90-425 Carrall St., Vancouver, BC V6B 6E3 Canada | 778-884-2598 |  | https://teem.fish/
* ASM/EM = At-sea and electronic monitoring; EM = Electronic monitoring only.

Authority: 16 U.S.C. 1801 et seq.

Dated: January 29, 2021.
Jennifer M. Wallace,
Acting Director, Office of Sustainable Fisheries, National Marine Fisheries Service.

[FR Doc. 2021-02336 Filed 2-3-21; 8:45 am]

BILLING CODE 3510-22-P